U.S. DEPARTMENT OF LABOR

Employment and Training Administration

[TA-W-85,689]

Honeywell Aerospace, a Subsidiary of Honeywell International, Moorestown, New Jersey; Notice of Affirmative Determination Regarding Application for Reconsideration

By application dated March 12, 2015, a company official requested administrative reconsideration of the negative determination regarding workers' eligibility to apply for alternative trade adjustment assistance applicable to workers and former workers of Honeywell Aerospace, a subsidiary of Honeywell International, Moorestown, New Jersey. The determination was issued on December 30, 2014. The Notice of Determination was published in the Federal Register on January 23, 2015 (80 FR 3656). The Notice of Determination was mistakenly classified in the Federal Register under the “Affirmative Determinations for Worker Adjustment Assistance and Alternative Trade Adjustment Assistance” header. It should have been recorded under the “Affirmative Determinations for Worker Adjustment Assistance” and the “Negative Determinations for Alternative Trade Adjustment Assistance” sections.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination for alternative trade adjustment assistance based on a finding that the workers possessed skills that were easily transferable.

The request for reconsideration asserts that the workers possessed skills that were not easily transferable.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 26th day of March, 2015.
Michael W. Jaffe,
Certifying Officer, Office of Trade Adjustment Assistance.

[FR Doc. 2015-09656 Filed 4-24-15; 8:45 am]

BILLING CODE 4510-FN-P